Title 3—

The President

Proclamation 8627 of February 1, 2011

National African American History Month, 2011

By the President of the United States of America

A Proclamation

The great abolitionist and orator Frederick Douglass once told us, “If there is no struggle, there is no progress.” Progress in America has not come easily, but has resulted from the collective efforts of generations. For centuries, African American men and women have persevered to enrich our national life and bend the arc of history toward justice. From resolute Revolutionary War soldiers fighting for liberty to the hardworking students of today reaching for horizons their ancestors could only have imagined, African Americans have strengthened our Nation by leading reforms, overcoming obstacles, and breaking down barriers. During National African American History Month, we celebrate the vast contributions of African Americans to our Nation’s history and identity.

This year’s theme, “African Americans and the Civil War,” invites us to reflect on 150 years since the start of the Civil War and on the patriots of a young country who fought for the promises of justice and equality laid out by our forbearers. In the Emancipation Proclamation, President Abraham Lincoln not only extended freedom to those still enslaved within rebellious areas, he also opened the door for African Americans to join the Union effort.

Tens of thousands of African Americans enlisted in the United States Army and Navy, making extraordinary sacrifices to help unite a fractured country and free millions from slavery. These gallant soldiers, like those in the 54th Massachusetts Infantry Regiment, served with distinction, braving both intolerance and the perils of war to inspire a Nation and expand the domain of freedom. Beyond the battlefield, black men and women also supported the war effort by serving as surgeons, nurses, chaplains, spies, and in other essential roles. These brave Americans gave their energy, their spirit, and sometimes their lives for the noble cause of liberty.

Over the course of the next century, the United States struggled to deliver fundamental civil and human rights to African Americans, but African Americans would not let their dreams be denied. Though Jim Crow segregation slowed the onward march of history and expansion of the American dream, African Americans braved bigotry and violence to organize schools, churches, and neighborhood organizations. Bolstered by strong values of faith and community, black men and women have launched businesses, fueled scientific advances, served our Nation in the Armed Forces, sought public office, taught our children, and created groundbreaking works of art and entertainment. To perfect our Union and provide a better life for their children, tenacious civil rights pioneers have long demanded that America live up to its founding principles, and their efforts continue to inspire us.

Though we inherit the extraordinary progress won by the tears and toil of our predecessors, we know barriers still remain on the road to equal opportunity. Knowledge is our strongest tool against injustice, and it is our responsibility to empower every child in America with a world-class education from cradle to career. We must continue to build on our Nation’s foundation of freedom and ensure equal opportunity, economic security, and civil rights for all Americans. After a historic recession has devastated many American families, and particularly African Americans, we must continue to create jobs, support our middle class, and strengthen pathways for families to climb out of poverty.

During National African American History Month, we recognize the extraordinary achievements of African Americans and their essential role in shaping the story of America. In honor of their courage and contributions, let us resolve to carry forward together the promise of America for our children.

NOW, THEREFORE, I, BARACK OBAMA, President of the United States of America, by virtue of the authority vested in me by the Constitution and the laws of the United States, do hereby proclaim February 2011 as National African American History Month. I call upon public officials, educators, librarians, and all the people of the United States to observe this month with appropriate programs, ceremonies, and activities.

IN WITNESS WHEREOF, I have hereunto set my hand this first day of February, in the year of our Lord two thousand eleven, and of the Independence of the United States of America the two hundred and thirty-fifth.

[FR Doc. 2011-2687

Filed 2-3-11; 11:15 am]

Billing code 3195-W1-P